NUCLEAR REGULATORY COMMISSION

10 CFR Part 72

[NRC-2022-0181]

RIN 3150-AK88

List of Approved Spent Fuel Storage Casks: Holtec International HI-STORM Flood/Wind Multipurpose Canister Storage System, Certificate of Compliance No. 1032, AmendmentNo. 6

AGENCY: Nuclear Regulatory Commission.

ACTION: Direct final rule; confirmation of effective date.

SUMMARY: The U.S. Nuclear Regulatory Commission (NRC) is confirming the effective date of March 22, 2023, for the direct final rule that was published in the Federal Register on January 6, 2023. This direct final rule amended the Holtec International Storage Module Flood/Wind (HI-STORM FW) Multipurpose Canister Storage System listing within the “List of approved spent fuel storage casks” to include Amendment No. 6 to Certificate of Compliance No. 1032.

DATES: The effective date of March 22, 2023, for the direct final rule published January 6, 2023 (88 FR 949), is confirmed.

ADDRESSES: Please refer to Docket ID NRC-2022-0181 when contacting the NRC about the availability of information for this action. You may obtain publicly available information related to this action by any of the following methods:

• Federal Rulemaking Website: Go to https://www.regulations.gov and search for Docket ID NRC-2022-0181. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The renewal of the certificate of compliance, the changes to the technical specifications, and the safety evaluation report can be viewed in ADAMS under Accession No. ML23041A437.

• NRC's PDR: You may examine and purchase copies of public documents, by appointment, at the NRC's PDR, Room P1 B35, One White Flint North, 11555 Rockville Pike, Maryland 20852. To make an appointment to visit the PDR, please send an email to PDR.Resource@nrc.gov or call 1-800-397-4209 or 301-415-4737, between 8:00 a.m. and 4:00 p.m. eastern time eastern time, Monday through Friday, except Federal holidays.

FOR FURTHER INFORMATION CONTACT: Gregory Trussell, Office of Nuclear Material Safety and Safeguards, U.S. Nuclear Regulatory Commission, Washington, DC 20555-0001; telephone: 301-415-6244, email: Gregory.Trussell@nrc.gov.

SUPPLEMENTARY INFORMATION: On January 6, 2023 (88 FR 949), the NRC published a direct final rule amending its regulations in part 72 of title 10 of the Code of Federal Regulations (10 CFR) to revise the Holtec International HI-STORM 100 Flood/Wind Multipurpose Canister Storage System listing within the “List of approved spent fuel storage casks” to add amendment No. 6 to Certificate of Compliance No. 1032. Amendment No. 6 revises and clarifies design and operational requirements in the certificate of compliance for the HI-STORM FW overpack. This amendment also incorporates additional clarifications as well as editorial changes that do not change the substantive technical information of the certificate of compliance.

Amendment No. 6 revises the certificate and technical specifications to: (1) Add an anchored configuration for the HI-STORM FW overpack; (2) Allow use of non-single failure proof lifting equipment during handling of heavy loads within the 10 CFR part 72 jurisdictional boundary; (3) Revise LCO 3.1.2, “SFSC Heat Removal System Operability,” to allow an engineering evaluation to be performed in lieu of transferring the multipurpose canister (MPC) into a transfer cask; (4) Revise the Radioactive Effluent Control Program to no longer require annual submittal of a separate radioactive effluent report [10 CFR 72.44(d)(3)] for the HI-STORM FW system; (5) Revise the allowable contents for the MPC-37, -89, and -32ML to clarify that fuel debris permitted for storage does not need to meet all the dimensional requirements and characteristics in tables 2.1-2 and 2.1-3, provided that requirements in table 2.1-1 are met; (6) Revise the MPC-37, -89, and -32ML basket Design Features to clarify that the minimum cell ID and minimum cell wall thickness are nominal dimensions; and (7) Incorporate additional clarifications and editorial changes that do not change the substantive technical information of the certificate of compliance.

In the direct final rule, the NRC stated that if no significant adverse comments were received, the direct final rule would become effective on March 22, 2023. The NRC did not receive any comments on the direct final rule. Therefore, this direct final rule will become effective as scheduled.

Dated: February 24, 2023.
For the Nuclear Regulatory Commission.
Cindy K. Bladey,
Chief, Regulatory Analysis and Rulemaking Support Branch, Division of Rulemaking, Environmental, and Financial Support Office of Nuclear Material Safety and Safeguards.

[FR Doc. 2023-04182 Filed 3-1-23; 8:45 am]

BILLING CODE 7590-01-P